FEDERAL COMMUNICATIONS COMMISSION

Notice of Public Information Collection(s) Being Reviewed by the Federal Communications Commission, Comments Requested

August 8, 2002.

SUMMARY: The Federal Communications Commission, as part of its continuing effort to reduce paperwork, burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 15, 2002. If you anticipate that you will be submitting comments, but find it difficult to do so within the period of time allowed by this notice, you should advise the contact listed below as soon as possible.

ADDRESSES: Direct all comments to Judith Boley Herman or Leslie Smith, Federal Communications Commission, Room 1-C804 or Room 1-A804, 445 12th Street, SW., Washington, DC 20554 or via the Internet to jboley@fcc.gov or lesmith@fcc.gov.

FOR FURTHER INFORMATION CONTACT: For additional information or copies of the information collection(s), contact Judith Boley Herman at 202-418-0214 or via the Internet at jboley@fcc.gov.

SUPPLEMENTARY INFORMATION: OMB Control No.: 3060-0207.

Title: Part 11 “ Emergency Alert System (EAS).

Form No.: N/A.

Type of Review: Revision of a currently approved collection.

Respondents: Business or other for-profit, not for-profit institutions.

Number of Respondents: 22,000 respondents; 1,144,000 responses.

Estimated Time Per Response: .017—40 hours.

Frequency of Response: On occasion reporting requirement and recordkeeping requirement.

Total Annual Burden: 38,585 hours.

Total Annual Cost: $8,250,000.

Needs and Uses: On February 22, 2002, the Commission adopted a Report and Order in EB Docket No. 01-66 (67 FR 18502). This Report and Order amended Part 11 rules to revise the technical and operational requirements for the Emergency Alert System (EAS). Many of these amendments were intended to enhance the capabilities and performance of the EAS during state and local emergencies, which will promote public safety. This Report and Order amended the EAS rules to make compliance with the EAS requirements less burdensome for broadcast stations, cable systems and wireless cable systems. The Report and Order also eliminated rules that were obsolete or no longer needed.

Part 11 contains rules and regulations providing for an EAS. The EAS provides the President with the capability to provide immediate communications and information to the general public at the national, state and local area level during periods of national emergency. The EAS also provides state and local government and the National Weather Service with the capability to provide immediate communications and information to the general public concerning emergency situations posing a threat to life and property.

Part 11 describes the required technical standards and operational procedures of the EAS for AM, FM and TV broadcast stations, cable systems, wireless cable systems and other participating entities and includes recordkeeping and reporting requirements.

The information will be used by FCC staff as part of routine inspections of broadcast stations. Accurate recordkeeping of this data is vital in determining the location and nature of possible equipment failure on the part of the transmitting or receiving entity. Furthermore, since the national level EAS is solely for the President's use, its proper operation must be assured.

Federal Communications Commission.
William F. Caton,
Deputy Secretary.

[FR Doc. 02-20793 Filed 8-15-02; 8:45 am]

BILLING CODE 6712-01-P